LEGAL SERVICES CORPORATION

Development of Strategic Directions 2006-2010

AGENCY: Legal Services Corporation.

ACTION: Development of strategic directions “ request for comments.

SUMMARY: In 2000, the Legal Services Corporation (LSC) Board of Directors adopted Strategic Directions 2000-2005. LSC is now undertaking an effort to develop Strategic Directions for the years 2006-2010. Toward that end, the Legal Services Corporation is soliciting suggestions for updating, revising and modifying LSC's Strategic Directions.

DATES: Written comments must be received on or before June 20, 2005.

ADDRESSES: Written comments may be submitted by mail, fax or e-mail to Charles Jeffress at the addresses listed below.

FOR FURTHER INFORMATION CONTACT: Charles Jeffress, Chief Administrative Officer, Legal Services Corporation, 3333 K Street, NW., Washington, DC 20007; 202-295-1630 (phone); 202-337-7302 (fax); cjeffress@lsc.gov.

SUPPLEMENTARY INFORMATION: In 2000, the Legal Services Corporation (LSC) Board of Directors adopted Strategic Directions 2000-2005. LSC is now undertaking an effort to develop Strategic Directions for the years 2006-2010. Toward that end, the Legal Services Corporation is soliciting suggestions for updating, revising and modifying LSC's Strategic Directions. The LSC Strategic Directions 2000-2005 document is available at the LSC Electronic Public Reading Room on the LSC Web site at: http://www.lsc.gov/FOIA/foia_epr.htm.

LSC seeks comments on the key directions for LSC over the next several years. LSC is actively seeking input from the public and all interested stakeholders, who are asked to address:

• What are realistic yet meaningful goals?

• How may LSC most effectively achieve its identified goals?

• How might LSC measure the achievement of the identified goals?

LSC also welcomes comments on whether there are different or additional questions that LSC should consider in its work on strategic directions for 2006-2010. Comments should be submitted as set forth above.

Victor M. Fortuno,
Vice President and General Counsel.

[FR Doc. 05-10060 Filed 5-19-05; 8:45 am]

BILLING CODE 7050-01-P